NUCLEAR REGULATORY COMMISSION

Notice of Issuance of Regulatory Guide

AGENCY: Nuclear Regulatory Commission.

ACTION: Notice of Issuance and Availability of Regulatory Guide 6.5, Revision 1.

FOR FURTHER INFORMATION CONTACT: Mark Orr, Regulatory Guide Development Branch, Division of Engineering, Office of Nuclear Regulatory Research, U.S. Nuclear Regulatory Commission, Washington, DC 20555-0001, telephone (301) 415-6373 or e-mail to Mark.Orr@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 1 of Regulatory Guide 6.5, “General Safety Standards for Installations Using Nonmedical Sealed Gamma-Ray Sources,” was issued with a temporary identification as Draft Regulatory Guide DG-6006. This guide directs the reader to the type of information acceptable to the NRC staff to approve the initial transfer of devices containing byproduct material to persons generally licensed under Title 10, Section 31.5, “Certain Detecting, Measuring, Gauging, or Controlling Devices, and Certain Devices for Producing Light or an Ionized Atmosphere,” of the Code of Federal Regulations (10 CFR 31.5) or equivalent regulations of an Agreement State.

The requirements for transferring gamma-ray sources to general licensees appear in 10 CFR 32.51, “Byproduct Material Contained in Devices for Use Under § 31.5; Requirements for License to Manufacturer, or Initially Transfer”. One method of complying with the requirements of 10 CFR 32.51 appears in NUREG-1556, Volume 3, “Consolidated Guidance about Materials Licenses: Applications for Sealed Source and Device Evaluation and Registration.”

This regulatory guide endorses the description of the information to be submitted in the application for the initial transfer and installation of sealed gamma-ray sources contained in the current revision of Volume 3 of NUREG-1556 as a method acceptable to the NRC staff.

II. Further Information

In January 2008, DG-6006 was published with a public comment period of 60 days from the issuance of the guide. No comments were received and the public comment period closed on April 18, 2008. Electronic copies of Regulatory Guide 6.5, Revision 1 are available through the NRC's public Web site under “Regulatory Guides” at http://www.nrc.gov/reading-rm/doc-collections/.

In addition, regulatory guides are available for inspection at the NRC's Public Document Room (PDR), which is located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr@nrc.gov.

Regulatory guides are not copyrighted, and NRC approval is not required to reproduce them.

Dated at Rockville, Maryland, this 3rd day of July, 2008.
For the Nuclear Regulatory Commission.
Stephen C. O'Connor,
Acting Chief, Regulatory Guide Development Branch, Division of Engineering, Office of Nuclear Regulatory Research.

[FR Doc. E8-15787 Filed 7-10-08; 8:45 am]

BILLING CODE 7590-01-P